DEPARTMENT OF LABOR

Employment and Training Administration

[TA-W-39,068]

Elizabeth Webbing, Inc., Central Falls, Rhode Island; Notice of Affirmative Determination Regarding Application for Reconsideration

By letter of August 1, 2001, the workers requested administrative reconsideration of the Department of Labor's Notice of Negative Determination Regarding Eligibility to Apply for Worker Adjustment Assistance, petition TA-W-39,068. The denial notice was signed on June 25, 2001 and published in the Federal Register on July 11, 2001 (66 FR 36329).

The Department has reviewed the request for reconsideration and has determined that further survey of major declining customers of the subject firm would be appropriate.

Conclusion

After careful review of the application, I conclude that the claim is of sufficient weight to justify reconsideration of the Department of Labor's prior decision. The application is, therefore, granted.

Signed at Washington, DC this 13th day of November, 2001.
Edward A. Tomchick,
Director, Division of Trade Adjustment Assistance.

[FR Doc. 01-30058 Filed 12-4-01; 8:45 am]

BILLING CODE 4510-30-M